COMMITTEE FOR PURCHASE FROM PEOPLE WHO ARE BLIND OR SEVERELY DISABLED

Procurement List; Addition and Deletions

AGENCY: Committee for Purchase From People Who Are Blind or Severely Disabled.

ACTION: Addition to and Deletions from the Procurement List.

SUMMARY: This action adds a service to the Procurement List that will be provided by a nonprofit agency employing persons who are blind or have other severe disabilities, and deletes products and services from the Procurement List previously furnished by such agencies.

DATES: Effective date: July 13, 2015.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Addition

On 2/27/2015 (80 FR 10668), the Committee for Purchase From People Who Are Blind or Severely Disabled published notice of proposed addition to the Procurement List.

After consideration of the material presented to it concerning capability of qualified nonprofit agency to provide the service and impact of the addition on the current or most recent contractor, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing a small entity to provide the service to the Government.

3. There are no known regulatory alternatives which would accomplish the objectives of the Javits-Wagner-O'Day Act (41 U.S.C. 8501-8506) in connection with the service proposed for addition to the Procurement List.

End of Certification

Accordingly, the following service is added to the Procurement List:

Service:

Service Type:

Mail Service

Service Mandatory For:

U.S. Air Force, Official Mail Center & Postal Service Center, 740 Arnold Avenue, Suite 1B, Whiteman AFB, MO

Mandatory Source of Supply:

Anthony Wayne Rehabilitation Center for Handicapped and Blind, Inc., Fort Wayne, IN

Contracting Activity:

Dept of the Air Force, FA4890 ACC AMIC, Newport News, VA

Deletions

On 5/1/2015 (80 FR 24905) and 5/8/2015 (80 FR 26548-26549), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products:

NSN(s)—Product Name(s):

MR 584—One Step Tub & Shower Cleaner

Mandatory Source of Supply:

Winston-Salem Industries for the Blind, Inc., Winston- Salem, NC

NSN(s)—Product Name(s)

MR 917—Brush, Bowl, Hardwood

Mandatory Source of Supply:

Alabama Industries for the Blind, Talladega, AL

Contracting Activity:

Defense Commissary Agency, Fort Lee, VA

NSN(s)—Product Name(s):

7530-00-988-6517—Card, File Guide, 1/5 Cut, 1st/5th Positions Tabs, Letter, Light Green

7530-00-988-6520—Card, File Guide, 1/3 Cut, 1st/3rd Positions Tabs, Legal, Light Green

Mandatory Source of Supply:

Georgia Industries for the Blind, Bainbridge, GA

Contracting Activity:

General Services Administration, New York, NY

Services:

Service Type:

Grounds Maintenance Service

Service Purchase For:

Fort Ord, CA

Mandatory Source of Supply:

Unknown

Contracting Activity:

Dept of the Army, W40M Northern Region Contract Office, Fort Belvoir, VA

Service Type:

Shelf Stocking & Custodial Service

Service Purchase For:

Barbers Point Naval Air Station, Barbers Point, HI

Mandatory Source of Supply:

Trace, Inc., Boise, ID

Contracting Activity:

Defense Commissary Agency, Fort Lee, VA

Service Type:

Janitorial/Custodial Service

Service Purchase For:

U.S. Army Reserve Center #1, 295 Goucher Street, Johnstown, PA

U.S. Army Reserve Center #2, 1300 St. Clair Road, Johnstown, PA

Johnstown Aviation Support Facility, Airport Road #2, Johnstown, PA

Mandatory Source of Supply:

Goodwill Industries of the Conemaugh Valley, Johnstown, PA

Contracting Activity:

Dept of the Army, W6QM MICC Ctr-Ft Dix (RC), Fort Dix, NJ

U.S. Marine Corps Reserve Center, 218 Aviation Drive, Johnstown, PA

Contracting Activity:

Dept of the Army, W40M Northern Region Contract Ofc, Fort Belvoir, VA

Barry S. Lineback,
Director, Business Operations.

[FR Doc. 2015-14442 Filed 6-11-15; 8:45 am]

BILLING CODE 6353-01-P